DEPARTMENT OF TRANSPORTATION

Federal Railroad Administration

Railworthiness Directive for Certain Railroad Tank Cars Equipped With Bottom Outlet Valve Assembly and Constructed by American Railcar Industries and ACF Industries

AGENCY: Federal Railroad Administration (FRA) Department of Transportation (DOT).

ACTION: Notice of issuance and availability of Railworthiness Directive.

SUMMARY: On September 30, 2016, FRA issued a Railworthiness Directive (Directive or RWD) to all owners of Department of Transportation (DOT) specification 111 general purpose tank cars. This document announces FRA's issuance of the RWD and its availability on FRA's Web site.

FOR FURTHER INFORMATION CONTACT: Larry Strouse, General Engineer, Hazardous Materials Division, Office of Technical Oversight, FRA, 200 W. Adams Street, Suite 310, Chicago, Illinois 60606, (312) 353-6203, Larry.Strouse@dot.gov.

SUPPLEMENTARY INFORMATION: FRA issued this Directive under 49 CFR 180.509(b)(4) to all owners of DOT specification 111 general purpose tank cars based on its finding that as a result of non-conforming welding practices, DOT-111 tank cars built by American Railcar Industries, Inc. (ARI) or ACF Industries, LLC (ACF) between 2009 and 2015 to the ARI or ACF 300 stub sill design and equipped with a two-piece cast sump and bottom outlet valve skid may be in an unsafe operating condition and could result in the release of hazardous materials. As a result of the identified non-conforming welding practices, these cars may have substantial weld defects at the sump and BOV skid groove attachment welds, potentially affecting each tank's ability to retain its contents during transportation. FRA issued the Directive to ensure public safety, ensure compliance with the applicable Federal regulations governing the safe movement of hazardous materials by rail, and ensure the railworthiness of the tank cars. The full text of the Directive is available on FRA's Web site at www.fra.gov by searching for RWD No. 2016-01.

Issued in Washington, DC, on September 27, 2016.
Robert C. Lauby,
Associate Administrator for Railroad Safety Chief Safety Officer.

[FR Doc. 2016-23770 Filed 9-30-16; 8:45 am]

BILLING CODE 4910-06-P